DEPARTMENT OF ENERGY

Federal Energy Regulatory Commission

[Docket No. RD17-4-000]

Commission Information Collection Activities (FERC-725A and FERC-725Z); Comment Request; Revisions

AGENCY: Federal Energy Regulatory Commission.

ACTION: Notice of revised information collections and request for comments.

SUMMARY: In compliance with the requirements of the Paperwork Reduction Act of 1995, the Federal Energy Regulatory Commission (“Commission”) is soliciting public comment on revisions to the information collections, FERC-725A (Mandatory Reliability Standards for the Bulk-Power System), and FERC-725Z (Mandatory Reliability Standards: IRO Reliability Standards), which will be submitted to the Office of Management and Budget (OMB) for a review of the information collection requirements.

DATES: Comments on the collections of information are due July 3, 2017.

ADDRESSES: You may submit comments (identified by Docket No. RD17-4-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725A (Mandatory Reliability Standards for the Bulk-Power System), and FERC-725Z (Mandatory Reliability Standards: IRO Reliability Standards).

OMB Control No.: 1902-0244 (FERC-725A) and 1902-0276 (FERC-725Z).

Type of Request: Revisions to the information collections, as discussed in Docket No. RD17-4-000.

Abstract: In a petition dated March 6, 2017, the North American Electric Reliability Corporation (“NERC”) requested Commission approval for proposed Reliability Standards IRO-002-5 (Reliability Coordination, Monitoring and Analysis) and TOP-001-4 (Transmission Operations). NERC stated that the “proposed Reliability Standards address the Commission directives in Order No. 817 related to: (i) Transmission operator monitoring of non-bulk electric system (“BES”) facilities; (ii) redundancy and diverse routing of transmission operator, balancing authority, and reliability coordinator data exchange capabilities; and (iii) testing of alternative or less frequently used data exchange capabilities.” In addition, NERC requested Commission approval of the retirement of Reliability Standards TOP-001-3 and IRO-002-4. In an order on April 17, 2017,¹ the implementation of Reliability Standard TOP-001-4 and the retirement of Reliability Standard TOP-001-3 was approved.

¹ The Delegated Letter Order is available in the Commission's eLibrary at https://elibrary.ferc.gov/idmws/common/OpenNat.asp?fileID=14560616.

Type of Respondents: Transmission operators (TOP), balancing authorities (BA), and reliability coordinators (RC).

Estimate of Annual Burden: ² The Commission estimates the changes in the annual public reporting burden and cost as follows.³

² Burden is defined as the total time, effort, or financial resources expended by persons to generate, maintain, retain, or disclose or provide information to or for a Federal agency. For further explanation of what is included in the information collection burden, refer to 5 Code of Federal Regulations 1320.3.

³ For the Reliability Standards being retired in Docket No. RD17-4, the baseline numbers for respondents, burden, and cost are the same figures as those in Order No. 817. The requirements and burdens (from the standards being retired) are continuing in the new standards, plus there are additional requirements and burdens as indicated in the table.

Changes Due to Docket No. RD17-4-000
Information collection requirements | Number of respondents and type of entity ⁴ | Annual number of responses per respondent | Total number of responses | Average burden hours and cost per response ($) | Total annual burden hours and total annual cost ($)
| (1) | (2) | (1) * (2) = (3) | (4) ⁵ | (3) * (4) = (5)
FERC-725A
Reporting and Recordkeeping Requirements (continuing in TOP-001-4 [formerly in TOP-001-3]) ⁶ |  |  |  | no change | no change.
Increases, due to Implementation of TOP-001-4 ⁷
Reporting (R10, R20, & R21), in Yr. 1 | 323 (TOP) | 1 | 323 | 11 hrs.; $707.19 | 3,553 hrs.; $228,422.37.
Reporting (R10, R20, & R21), in Yr. 2 & ongoing | 323 (TOP) | 1 | 323 | 3 hrs.; $192.87 | 969 hrs.; $62,297.01.
Recordkeeping, in Yr. 1 | 323 (TOP) | 1 | 323 | 3 hrs.; $113.25 | 969 hrs.; $36,579.75.
Recordkeeping, in Yr. 2 & ongoing | 323 (TOP) | 1 | 323 | 2 hrs.; $75.50 | 646 hrs.; $24,386.50.
Reporting (R23 & R24), in Yr. 1 | 99 (BA) | 1 | 99 | 8 hrs.; $514.32 | 792 hrs.; $50,917.68.
Reporting (R23 & R24), in Yr. 2 & ongoing | 99 (BA) | 1 | 99 | 2 hrs.; $128.58 | 198 hrs.; $12,729.42.
Recordkeeping, in Yr. 1 | 99 (BA) | 1 | 99 | 4 hrs.; $151.00 | 396 hrs.; $14,949.00.
Recordkeeping, in Yr. 2 and ongoing | 99 (BA) | 1 | 99 | 4 hrs.; $151.00 | 396 hrs.; $14,949.00.
Increase to FERC-725A in Year 1 |  |  |  |  | 5,710 hrs.; $330,868.80.
Increase to FERC-725A in Year 2 & ongoing |  |  |  |  | 2,209 hrs.; $114,361.93.
FERC-725Z
Reporting and Recordkeeping Requirements (continuing in IRO-002-5 [formerly in IRO-002-4]) ⁸ |  |  |  | no change | no change.
Increases, due to Implementation of IRO-002-5 ⁹
Reporting (R2 & R3), in Yr. 1 | 11 (RC) | 1 | 11 | 8 hrs.; $514.32 | 88 hrs.; $5,657.52.
Reporting (R2 & R3),in Yr. 2 & ongoing | 11 (RC) | 1 | 11 | 2 hrs.; $128.58 | 22 hrs.; $1,414.38.
Recordkeeping, in Yr. 1 | 11 (RC) | 1 | 11 | 5 hrs.; $188.75 | 55 hrs.; $2,076.25.
Recordkeeping, in Yr. 2 & ongoing | 11 (RC) | 1 | 11 | 4 hrs.; $151.00 | 44 hrs.; $1,661.00.
Increase to FERC-725Z in Year 1 |  |  |  |  | 143 hrs.; $7,733.77.
Increase to FERC-725Z in Year 2 and ongoing |  |  |  |  | 66 hrs.; $3,075.38.
Total Increase in Year 1, Due to Docket No. RD17-4 |  |  |  |  | 5,853 hrs.; $338,602.57.
Total Increase in Year 2 and Ongoing, Due to Docket No. RD17-4 |  |  |  |  | 2,275 hrs.; $117,437.31.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

⁴ Our estimates are based on the NERC Compliance Registry of 12/12/2016, which indicates there are 323 entities registered as TOPs, 99 entities registered as BAs, and 11 entities registered as RCs within the United States. One entity may be registered as having several rules.

⁵ The hourly cost figures, for salary plus benefits, for the new standards are based on Bureau of Labor Statistics (BLS) information (at http://www.bls.gov/oes/current/naics2_22.htm), as of May 2015. For reporting requirements, an electrical engineer (code 17-2071) is $64.29/hour; for the recordkeeping requirements, an information and record clerk (code 43-4199) is $37.75/hour.

⁶ The reporting and recordkeeping requirements and the associated burden will continue in TOP-001-4 (formerly included in TOP-001-3, which is now being retired). The corresponding estimated burden for the 196 TOPs and BAs continues to be 96 hours per response (or a total estimated burden of 18,816 hours).

⁷ Requirement R21 (applicable to TOPs in ongoing yrs.) covers quarterly testing and associated reporting and recordkeeping requirements. Requirement R24 (applicable to BAs in ongoing yrs.) covers quarterly testing and associated engineering and recordkeeping requirements.

⁸ The reporting and recordkeeping requirements and the associated burden will continue in IRO-002-5 (burden formerly included in IRO-002-4, which is being retired). The corresponding estimated burden for the 11 RCs continues to be 24 hours per response (or a total estimated burden of 264 hours).

⁹ Requirement R3 (applicable to RCs in ongoing yrs.) covers quarterly testing and associated reporting and recordkeeping requirements.

Dated: April 25, 2017.
Kimberly D. Bose,
Secretary.

[FR Doc. 2017-08800 Filed 5-1-17; 8:45 am]

BILLING CODE 6717-01-P